DEPARTMENT OF THE INTERIOR

National Park Service

[NPS-WASO-NAGPRA-NPS0039477; PPWOCRADN0-PCU00RP14.R50000]

Notice of Intended Disposition: U.S. Department of the Interior, National Park Service, Katmai National Park and Preserve, King Salmon, AK

AGENCY: National Park Service, Interior.

ACTION: Notice.

SUMMARY: In accordance with the Native American Graves Protection and Repatriation Act (NAGPRA), the U.S. Department of the Interior, National Park Service, Katmai National Park and Preserve (KATM) intends to carry out the disposition of human remains and associated funerary objects removed from Federal or Tribal lands to the lineal descendants, Indian Tribe, or Native Hawaiian organization with priority for disposition in this notice.

DATES: Disposition of the human remains or cultural items in this notice may occur on or after April 17, 2025. If no claim for disposition is received by March 18, 2026, the human remains and associated funerary objects in this notice will become unclaimed human remains and associated funerary objects.

ADDRESSES: Mark Sturm, Superintendent, Katmai National Park and Preserve, P.O. Box 7, King Salmon, AK 99613, telephone (907) 246-2120, email mark_sturm@nps.gov.

SUPPLEMENTARY INFORMATION: This notice is published as part of the National Park Service's administrative responsibilities under NAGPRA. The determinations in this notice are the sole responsibility of the Superintendent, KATM, and additional information on the human remains and associated funerary objects in this notice, including the results of consultation, can be found in the related records.

Abstract of Information Available

Based on the information available, human remains representing at least 12 individuals have been identified from an archaeological site known as the Mink Island Site, state site XMK-030. The 104 associated funerary objects are stone balls, an ivory arrow point, an ivory labret, a barbed ivory spear point, a carved ivory eye, biface fragments, ground slate tool fragments, net sinkers, an abrader, an awl-like tool, retouched flakes, ground slate fragments, flakes, a worked whale rib, a sea mammal tooth, worked bone and ivory fragments, worked or polished stones, coal fragments, an unworked small animal bone, stones, and pebbles.

In 1997, human remains, eroded from the Mink Island site in Amalik Bay (Kodiak Island Borough, Alaska) along the KATM coast due to natural erosion and looting activities, were collected. Between 1998-2000, the site was excavated by the NPS. While no other burials were encountered, an additional 25 human bones were identified and collected from the erosional area/slope of the site. After excavation, during analysis of the animal fauna recovered from the site, a further 27 human bones were found for a total of 52 bones. During a 2006 follow up site-check, two human bones were discovered and recovered. All of the human remains and funerary objects are stored at the Alaska Regional Curatorial Center (ARCC) at the NPS Regional Office in Anchorage.

Determinations

KATM has determined that:

• The human remains described in this notice represent the physical remains of at least 12 individuals of Native American ancestry.

• The 104 objects described in this notice are believed to have been placed intentionally with or near individual human remains at the time of death or later as part of the death rite or ceremony.

• The Alutiiq Tribe of Old Harbor; Chignik Bay Tribal Council; Ivanof Bay Tribe; King Salmon Tribe; Naknek Native Village; Native Village of Akhiok; Native Village of Chignik Lagoon; Native Village of Karluk; Native Village of Larsen Bay; Native Village of Ouzinkie; Native Village of Perryville; Native Village of Port Lions; and South Naknek Village have priority for disposition of the human remains and associated funerary objects described in this notice.

Claims for Disposition

Written claims for disposition of the human remains and associated funerary objects in this notice must be sent to the appropriate official identified in this notice under ADDRESSES. If no claim for disposition is received by March 18, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after April 17, 2025. If competing claims for disposition are received, KATM must determine the most appropriate claimant prior to disposition. Requests for joint disposition of the human remains and associated funerary objects are considered a single request and not competing requests. KATM is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04366 Filed 3-17-25; 8:45 am]

BILLING CODE 4312-52-P